DEPARTMENT OF THE INTERIOR

[Docket No. MMS-2007-OMM-0063]

Minerals Management Service

MMS Information Collection Activity: 1010-0151 (30 CFR 250, Subpart B) Plans and Information, Extension of a Collection; Comment Request

AGENCY: Minerals Management Service (MMS), Interior.

ACTION: Notice of extension of an information collection (1010-0151).

SUMMARY: To comply with the Paperwork Reduction Act of 1995 (PRA), MMS is inviting comments on a collection of information that we will submit to the Office of Management and Budget (OMB) for review and approval. The information collection request (ICR) concerns the paperwork requirements in the regulations under 30 CFR 250, Subpart B, Plans and Information.

DATE: Submit written comments by January 14, 2008.

ADDRESSES: You may submit comments by any either of the following methods listed below.

• Electronically: go to http://www.regulations.gov, select “Minerals Management Service” from the agency drop-down menu, then click “submit.” In the Docket ID column, select MMS-2007-OMM-0063 to submit public comments and to view supporting and related materials available. Information on using Regulations.gov, including instructions for accessing documents, submitting comments, and viewing the docket after the close of the comment period, is available through the site's “User Tips” link. All comments submitted will be published and posted to the docket after the closing period.

• Mail or hand-carry comments to the Department of the Interior; Minerals Management Service; Attention: Cheryl Blundon; 381 Elden Street, MS-4024; Herndon, Virginia 20170-4817. Please reference “Information Collection 1010-0151” in your comments.

FOR FURTHER INFORMATION CONTACT: Cheryl Blundon, Regulations and Standards Branch at (703) 787-1607. You may also contact Cheryl Blundon to obtain a copy, at no cost, of the regulations and the forms that require the subject collection of information.

SUPPLEMENTARY INFORMATION: Title: 30 CFR Part 250, Subpart B, Plans and Information.

Form(s): MMS-137, MMS-138, MMS-139, MMS-141, and MMS-142.

OMB Control Number: 1010-0151.

Abstract: The Outer Continental Shelf (OCS) Lands Act, as amended (43 U.S.C. 1331 et seq., 31 U.S.C. 9701), authorizes the Secretary of the Interior to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Sections 11 and 25 of the amended OCS Lands Act require the holders of OCS oil and gas or sulphur leases to submit exploration plans (EPs) or development and production plans (DPPs) to the Secretary for approval prior to commencing these activities. As a Federal agency, we have a continuing affirmative duty to comply with the Endangered Species Act (ESA). This includes a substantive duty to carry out any agency action in a manner that is not likely to jeopardize protected species as well as a procedural duty to consult with the Fish and Wildlife Service (FWS) and National Oceanic and Atmospheric Administration Fisheries (NOAA Fisheries) before engaging in a discretionary action that may affect a protected species.

To provide supplementary guidance and procedures, MMS issues Notices to Lessees and Operators (NTLs) on a regional or national basis. Regulation 30 CFR 250.103 allows MMS to issue NTLs to clarify, supplement, or provide more detail about certain requirements.

Regulations at 30 CFR part 250 Subpart B, implement these statutory requirements. The MMS engineers, geologists, geophysicists, environmental scientists, and other Federal agencies analyze and evaluate the information and data collected under subpart B to ensure that planned operations are safe; will not adversely affect the marine, coastal, or human environment; and will conserve the resources of the OCS. We use the information to: (a) Report annually to NOAA Fisheries the effectiveness of mitigation, any adverse effects of the proposed action, and any incidental take, in accordance with 50 CFR 402.14(i)(3), and (b) allow the Regional Supervisor to make an informed decision on whether to approve the proposed exploration or development and production plans as submitted, or whether modifications are necessary without the analysis and evaluation of the required information. The affected States also review the information collected for consistency with approved Coastal Zone Management (CZM) plans.

Specifically, MMS uses the information to evaluate, analyze, determine, or ensure that:

• Ancillary activities comply with appropriate laws or regulations and are conducted safely, protect the environment, and do not interfere or conflict with the other uses of the OCS (i.e., military use, subsistence activity).

• Points of contact and responsible parties are designated for proposed activities.

• Surveying, monitoring, or other activities do not interfere or conflict with preexisting and other uses of the area.

• Plans or actions meet or implement lease stipulation requirements.

• Proposed exploration, drilling, production, and pipeline activities are conducted in a safe and acceptable manner for the location and water depth proposed and conserve reservoir energy to allow enhanced recovery operations in later stages of lease development.

• Unnecessary or incompatible facilities are not installed on the OCS.

• Shallow drilling hazards (such as shallow gas accumulations or mudslide areas) are avoided.

• Areas are properly classified for H2S, and appropriate procedures are in place.

• Appropriate oil spill planning measures and procedures are implemented.

• Expected meteorological conditions at the activity site are accommodated.

• Environmentally sensitive areas are identified, and the direct and cumulative effects of the activities are minimized.

• Offshore and onshore air quality is not significantly affected by the proposed activities.

• Waste disposal methods and pollution mitigation techniques are appropriate for local conditions.

• State CZM requirements have been met.

• Archaeological or cultural resources are identified and protected from unreasonable disturbances.

• Socioeconomic effects of the proposed project on the local community and associated services have been determined.

• Support infrastructures and associated traffic are adequately covered in plans.

The following forms used in the Gulf of Mexico Region (GOMR) are also submitted to MMS. The OMB approved these forms as part of the information collection for the current subpart B regulations.

• Form MMS-137 (Plan Information Form) is submitted to summarize plan information.

• Forms MMS-138 (GOM Air Emission Calculations for Exploration Plans) and MMS-139 (GOM Air Emission Calculations for Development Operations Coordination Documents (DOCDs)) are submitted to standardize the way potential air emissions are estimated and approved as part of the OCS plan.

• MMS-141 (ROV Survey Report) is submitted to report the observations and information recorded from 2 sets of ROV monitoring surveys to identify high-density biological communities that may occur on the seafloor in deep water.

• MMS-142 (Environmental Impact Analysis Worksheet) is a fill in the blank form that is submitted to identify the environmental impact-producing factors (IPFs) for the listed environmental resources.

We will protect information from respondents considered proprietary under the Freedom of Information Act (5 U.S.C. 552) and its implementing regulations (43 CFR part 2) and under regulations at 30 CFR 250.197, “Data and information to be made available to the public or for limited inspection.” No items of a sensitive nature are collected. Responses are mandatory.

Frequency: On occasion.

Estimated Number and Description of Respondents: Approximately 130 Federal OCS oil and gas lessees and operators.

Estimated Reporting and Recordkeeping “Hour” Burden: The currently approved annual reporting burden for this collection is 321,817 hours. The following chart details the individual components and respective hour burden estimates of this ICR. In calculating the burdens, we assumed that respondents perform certain requirements in the normal course of their activities. We consider these to be usual and customary and took that into account in estimating the burden.

Citation 30 CFR 250 subpart B and NTLs | Reporting & recordkeeping requirement | Hour burden: Non-hour cost burden
200 thru 206 | General requirements for plans and information | Burden with specific requirements below.
208 | Notify MMS and other users of the OCS before conducting ancillary activities | 10
210(a) | Submit report summarizing & analyzing data/information obtained or derived from ancillary activities | 1
210(b) | Retain ancillary activities data/information | 2
211 thru 228 | Submit EP and accompanying information (including forms MMS-137, MMS 138, MMS-142 used in GOMR) and provide notifications | 640 $3,250 ea EP surface location*
211 thru 228; 241 thru 262; NTLs | Submit to MMS observer training requirement materials and information | 1/2 hour.
| Training certification and recordkeeping | 1/2 hour.
| If used, submit to MMS information on any passive acoustic monitoring system prior to placing it in service | 1 hour.
| Submit to MMS marine mammal observation report(s). (This includes observer duty and training and are the occasional activities done in-house and not subcontracted out.) | 345 hours**.
| Observer training | $37.50 per hour.
| Observation Report/Form | $52 per hour.
| Observation Duty | $52 per hour.
211 thru 228: 241 thru 262; NTLs | Submit injured/dead protected species report | 1/2 hour.
211 thru 228; 241 thru 262; NTLs | Submit request for training video | 1/2 hour.
| Submit annual report to MMS on training process and certification | 1/2 hour.
| Training recordkeeping | 1/2 hour.
| Post placards on vessels and structures. (Exempt from information collection burden because MMS is providing exact language for the trash and debris warning, similar to the “Surgeon General's Warning” exemption.) | 0
231(b); 232(d); 234; 235(a); 281(d)(3); 283; 284; 285; 209 | Submit amended, modified, revised, or supplemental EP, or resubmit disapproved EP | 120
235(b); 272(b); 281(d)(3)(ii) | Appeal State's objection | Burden exempt as defined in 5 CFR 1320.4(a)(2), (c).
241 thru 262; 209 | Submit DPP or DOCD and accompanying information (including forms MMS-137, MMS 139, MMS-NEW used in GOMR) and provide notifications | 690 $3,750 ea DPP/ DOCD well*.
266(b); 267(d); 272(a); 273, 283; 284; 285; 209 | Submit amended, modified, revised, or supplemental DPP or DOCD, or resubmit disapproved DPP or DOCD | GOM-95 POCS-600.
269(b) | Submit information on preliminary plans for leases or units in vicinity of proposed development and production activities | 2
281(a) | Submit various applications. Burdens included under appropriate subpart or form (1010-0050; 1010-0059; 1010-0141; 1010-0149) | 0
282 | Retain monitoring data/information. | 2
| Submit monitoring plans | 1
282(b) | Submit monitoring reports and data (including form MMS-141 used in GOMR) | 2
287 thru 295 | Submit DWOP | 750 $3,150 ea DWOP.
296 thru 298 | Submit CID | 443 $24,200 ea CID
200 thru 299 | General departure and alternative compliance requests not specifically covered elsewhere in subpart B regulations | 2
*You may have multiple locations and/or wells for each EP, EPP, or DOCD.
** Hours are based on 14 days of observing, attending a training session, and writing report(s).

Estimated Reporting and Recordkeeping “Non-Hour Cost” Burden: We have identified seven non-hour costs associated with this information collection. Four of these non-hour cost burdens are cost recovery fees. They consist of fees being submitted with EP's, DPP's or DOCD's, DWOP's, and CID's. There are also three non-hour cost burdens that are associated with the Protected Species Observer Program. The costs associated with this program are due to activities that are, for the most part, subcontracted to other service companies with expertise in these areas. To allow for the potential in-house reporting by lessees/operators, we have retained a minimal hour burden in the table.

We estimate that the annual non-hour cost burden is $8,906,784. We have not identified any other “non-hour cost” burdens associated with this collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: October 15, 2007.
E.P. Danenberger,
Chief, Office of Offshore Regulatory Programs.

[FR Doc. E7-22300 Filed 11-14-07; 8:45 am]

BILLING CODE 4310-MR-P